DEPARTMENT OF ENERGY

Federal Energy Regulatory Commission

[Docket Nos. ER00-982-000, ER99-4534-000, ER99-238-000, ER97-1326-000, EL00-44-000, ER00-604-000 and ER00-26-000]

Central Maine Power Company; Notice of Initiation of Proceeding and Refund Effective Date

February 29, 2000.

Take notice that on February 28, 2000, the Commission issued an order in the above-indicated dockets initiating a proceeding in Docket No. EL00-44-000 under section 206 of the Federal Power Act.

The refund effective date in Docket No. EL00-44-000 will be 60 days after publication of this notice in the Federal Register.

David P. Boergers,
Secretary.

[FR Doc. 00-5259 Filed 3-3-00; 8:45 am]

BILLING CODE 6717-01-M